DEPARTMENT OF ENERGY

Federal Energy Regulatory Commission

[Project No. 13843-001]

Qualified Hydro 24, LLC; Notice of Scoping Meetings and Environmental Site Review and Soliciting Scoping Comments

a. Type of Filing: Notice of Intent to file license application and pre-application document.

b. Project No.: 13843-001.

c. Date filed: January 3, 2012.

d. Applicant: Qualified Hydro 24, LLC.

e. Name of Project: Cle Elum Project.

f. Location: On the Cle Elum River, in Kittitas County, Washington. A portion of the project occupies United States lands administered by U.S. Forest Service.

g. Filed Pursuant to: 18 CFR 5.5 and 5.6 of the Commission's regulations.

h. Potential Applicant Contact: Ramya Swaminathan, Qualified Hydro 24, LLC, 239 Causeway Street, Suite 300, Boston, MA 02114; (978) 283-2822.

i. FERC Contact: Jim Hastreiter at (503) 552-2760; or email at james.hastreiter@ferc.gov.

j. Deadline for filing information, study requests, and scoping comments: July 13, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

k. The proposed project would use the existing dam, intake structure, discharge conduit, and outlet conduit to generate power by using flow releases from Reclamation's existing Cle Elum Dam. The proposed project would consist of following new structures: (1) A 25-foot-long, steel lined bifurcation; (2) a steel 100-foot-long, 12-foot-diameter penstock; (3) a steel 50-foot-diameter, 140-foot-tall surge tank; (4) a 50- by 80-foot concrete powerhouse with associated control equipment; (5) two vertical Francis turbines and two 3.7 MW generators; (6) a 70- by 160-foot-long concrete tailrace; a 35- by 40-foot substation; a 1,000-foot-long, 12.5 kilovolt transmission line; a 1000-foot-long access road; and appurtenant facilities.

l. A copy of the NOI and PAD is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

m. Scoping Process

The Commission intends to prepare an Environmental assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

Date: Wednesday, June 13, 2012

Time: 2:00 p.m.

Place: Suncadia Lodge

Address: 3600 Suncadia Trail, Cle Elum, Washington 98922

Public Scoping Meeting

Date: Wednesday, June 13, 2012

Time: 7:00 p.m..

Place: Suncadia Lodge

Address: 3600 Suncadia Trail, Cle Elum, Washington 98922

Copies of the Scoping Document (SD1) outlining the subject areas to be addressed in the EIS were distributed to the parties on the Commission's mailing list. Copies of the SD1 will be available at the scoping meeting or may be viewed on the Web at http://www.ferc.gov using the “eLibrary” link (see item l above).

Environmental Site Review

The Applicant, Bureau of Reclamation, and FERC staff will conduct a project Environmental Site Review beginning at 9:00 a.m. on June 13, 2012. All interested individuals, organizations, and agencies are invited to attend. All participants should meet at the Cle Elum dam. All participants are responsible for their own transportation to the site. Anyone with questions about the Environmental Site Review should contact Mr. Alan Topalian of Qualified Hydro 24, LLC at 978-283-2822, ext. 122.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Dated: May 14, 2012.
Kimberly D. Bose,
Secretary.

[FR Doc. 2012-12068 Filed 5-17-12; 8:45 am]

BILLING CODE 6717-01-P